NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time: November 3, 2021, 10:00 a.m.-4:30 p.m. EST; November 4, 2021, 10:00 a.m.-12:45 p.m. EST.

Place: National Science Foundation, 2415 Eisenhower Avenue, Alexandria, VA 22314.

Due to ongoing social distancing best practices because of COVID-19, the meeting will be held virtually among the Advisory Committee members. Livestreaming will be accessible through this page: https://nsf.gov/bio/advisory.jsp.

Type of Meeting: Open.

Contact Person: Karen Cone, National Science Foundation, 2415 Eisenhower Avenue, Alexandria, VA 22314 Telephone: (703) 292-8400.

Purpose of Meeting: The Advisory Committee (AC) for the Directorate for Biological Sciences (BIO) provides advice, recommendations, and oversight concerning major program emphases, directions, and goals for the research-related activities of the divisions that make up BIO.

Agenda: Agenda items will include a directorate business update, update on BIO's broadening participation portfolio, a joint session with the Mathematical and Physical Sciences Advisory Committee (MPS AC) to discuss the MPS AC subcommittee report on “MPS and the Living World”, update on Technology, Innovation and Partnerships, updates from the BIO AC liaisons to the Committee on Equal Opportunities in Science and Engineering and to the AC for Environmental Research and Education, discussion with the NSF Director, and discussion of BIO's response to the Division of Biological Infrastructure Committee of Visitors report.

Dated: September 27, 2021.
Crystal Robinson,
Committee Management Officer.

[FR Doc. 2021-21357 Filed 9-30-21; 8:45 am]

BILLING CODE 7555-01-P